DEPARTMENT OF COMMERCE

National Oceanic and Atmospheric Administration

50 CFR Part 300

[Docket No. 110620342-1659-03]

RIN 0648-XC922

International Fisheries; Pacific Tuna Fisheries; 2013 Bigeye Tuna Longline Fishery Closure in the Eastern Pacific Ocean; Correction

AGENCY: National Marine Fisheries Service (NMFS), National Oceanic and Atmospheric Administration (NOAA), Commerce.

ACTION: Temporary rule; fishery closure; correction.

SUMMARY: This action corrects a date in a rule published in the Federal Register on November 4, 2013, to close the bigeye tuna longline fishery in the Eastern Pacific Ocean for the remainder of 2013.

DATES: Effective November 11, 2013, through December 31, 2013.

FOR FURTHER INFORMATION CONTACT: Heidi Taylor, West Coast Region, 562-980-4039.

SUPPLEMENTARY INFORMATION: NMFS announced that the bigeye tuna longline fishery in the Eastern Pacific Ocean would be closed effective November 11. Any bigeye tuna already on board a fishing vessel on November 11 may be retained on board, transshipped, and/or landed, to the extent authorized by applicable laws and regulations, provided that the fish is landed within 14 days of November 11. NMFS published that 14 days after the effective date of November 11, 2013 would be November 18, 2013; however the correct date is November 25, 2013.

Correction

Accordingly, in the rule published on November 4, 2013 (78 FR 65887), on page 65888, in the second column, the date November 18, 2013, in the last sentence of the second paragraph is revised to read November 25, 2013.

Authority: 16 U.S.C. 951-962 et seq.

Dated: November 19, 2013.
Sean Corson,
Acting Deputy Director, Office of Sustainable Fisheries, National Marine Fisheries Service.

[FR Doc. 2013-28063 Filed 11-19-13; 4:15 pm]

BILLING CODE 3510-22-P